DEPARTMENT OF TRANSPORTATION

Pipeline and Hazardous Materials Safety Administration

[Docket No. PHMSA-2010-0193]

Pipeline Safety: Information Collection Activity; Request for Comments

AGENCY: Pipeline and Hazardous Materials Safety Administration (PHMSA), DOT.

ACTION: Notice and request for comments.

SUMMARY: In compliance with the Paperwork Reduction Act of 1995 (44 U.S.C. 3501 et seq.), this notice announces that the Information Collection Request (ICR) abstracted below is being forwarded to the Office of Management and Budget (OMB) for review and comment. The ICR describes the nature of the information collection and its expected burden. A Federal Register Notice with a 60-day period for commenting on the following information collection was published on July 14, 2010 (75 FR 40863). No comments were received.

DATES: Comments must be submitted on or before October 25, 2010.

ADDRESSES: Send comments regarding the burden estimate, including suggestions for reducing the burden, to OMB, Attention: Desk Officer for PHMSA, 725 17th Street, NW., Washington, DC 20503.

FOR FURTHER INFORMATION CONTACT: Cameron Satterthwaite by telephone at 202-366-1319, by fax at 202-366-4566, or by mail at U.S. Department of Transportation, Pipeline and Hazardous Materials Safety Administration, 1200 New Jersey Avenue, SE., PHP-30, Washington, DC 20590-0001.

SUPPLEMENTARY INFORMATION: Title: Incorporation by Reference of Industry Standard on Leak Detection.

OMB Control Number: 2137-0598.

Type of Request: Renewal of a currently-approved information collection.

Abstract: Under 49 CFR 195.444 of the Federal pipeline safety regulations, operators of single-phase hazardous liquid pipeline facilities that use computational pipeline monitoring (CPM) leak detection systems must comply with the standards set out in American Petroleum Institute (API) publication API 1130. API 1130 requires operators to record and retain certain information regarding the operation and testing of CPM systems. Compliance with API 1130, including its recordkeeping requirements, supports pipeline safety by ensuring the proper functioning of CPM leak detection systems.

Affected Public: Operators of hazardous liquid pipelines.

Estimated Number of Responses: 50.

Annual Estimated Burden Hours: 100.

Frequency of Collection: On occasion.

Comments are invited on the following: Whether the proposed collection of information is necessary for the proper performance of the functions of the Department, including whether the information collected will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on September 17, 2010.
Linda Daugherty,
Deputy Associate Administrator for Policy and Programs.

[FR Doc. 2010-23739 Filed 9-22-10; 8:45 am]

BILLING CODE 4910-60-P